DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before December 26, 2000.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building. 400 7th Street, SW, Washington, DC 20590 or at http://dms.dot.gov.

This notice of receipt of applications for new exemptions is published in accordance with Part 107 of the Federal hazardous materials transportation law (49 U.S.C. 5117(b); 49 CFR 1.53(b)).

Issued in Washington, DC, on November 17, 2000.
J. Suzanne Hedgepeth,
Director, Office of Hazardous Materials, Exemptions and Approvals.

New Exemptions

Application No. | Docket No. | Applicant | Regulation(s) affected | Nature of exemption thereof
12561-N | REPA-2000-8305 | Rhodia Inc., Cranbury, NJ | 49 CFR 172.203(a), 173.31, 179.23 | To authorize the transportation in commerce of DOT Specification 111S100W-2 tank cars that exceed the maximum gross weight limit for use in transporting Class 8 material. (mode 2)
12562-N | REPA-2000-8306 | Tae Yang Industrial Co., Ltd., Cheonan-City, South, KR | 49 CFR 173.304(d)(3)(ii) | To authorize the transportation in commerce of Division 2.1 hazardous materials in nonrefillable non-DOT specification inside containers conforming to DOT Specification 2P except for size, testing requirements and markings. (modes 1, 2, 3, 4)
12563-N | REPA-2000-8307 | Department of Energy, Washington, DC | 49 CFR 173.211 | To authorize the one-time transportation of a specifically designed device consisting of ASME AS240 Type 316 stainless steel with wall thickness of 0.33 for use in transporting a Division 4.3 material. (mode 1)
12564-N | REPA-2000-8308 | Carleton Technologies Inc., Orchard Park, NY | 49 CFR 173.302 | To authorize the transportation in commerce of non-DOT specification pressure vessels similar to specifications 39 for use in transporting helium, Division 2.2. (modes 1, 2, 4)
12567-N | REPA-2000-8311 | Honeywell International, Inc., Morristown, NJ | 49 CFR 173.243 | To authorize the transportation in commerce of boron trifluoride diethyl etherate, Division 4.3 in non-DOT specification cylinders conforming to specification 4BW. (modes 1, 2, 3)
12571-N | REPA-2000-8315 | Air Products & Chemicals, Inc, Allentown, PA | 49 CFR 173.304(a)(2), 173.34(d) | To authorize the transportation in commerce of Division 2.2 material in 3AA, 3A, 3AAX, 3AX cylinders without pressure relief devices. (mode 1)
12573-N | REPA-2000-8317 | US Can Company, Elgin, IL | 49 CFR 173.304(e), 173.306(a) | To authorize the transportation in commerce of a non-refillable non-DOT specification container similar to a DOT Specification 2Q for use in transporting certain refrigerant gases, classed as non-flammble aerosols. (modes 1, 2, 3, 4)
12574-N | REPA-2000-8318 | Weldship Corporation, Bethlehem, PA | 49 CFR 172.302(c) (2), (3), (4), (5), Subpart F of Part 180 | To authorize an acoustic emission test in lieu of hydrostatic retest and internal inspection of DOT 107A tubes used for transporting compressed gases. (modes 1, 2, 3)

[FR Doc. 00-29937 Filed 11-22-00; 8:45 am]

BILLING CODE 4910-60-M